DEPARTMENT OF ENERGY

Federal Energy Regulatory Commission

[Project No. 4451-024]

Green Mountain Power Corporation; City of Somersworth, New Hampshire; Notice of Application Accepted for Filing and Soliciting Motions To Intervene and Protests

Take notice that the following hydroelectric application has been filed with the Commission and is available for public inspection.

a. Type of Application: Subsequent Minor License.

b. Project No.: 4451-024.

c. Date filed: April 30, 2020.

d. Applicants: Green Mountain Power, City of Somersworth, New Hampshire.

e. Name of Project: Lower Great Falls Hydroelectric Project.

f. Location: On the Salmon Falls River in Strafford County, New Hampshire, and York County, Maine. No federal lands are occupied by the project works or located within the project boundary.

g. Filed Pursuant to: Federal Power Act, 16 U.S.C. 791(a)-825(r).

h. Applicant Contact: Mr. John Greenan, Green Mountain Power Corporation, 1252 Post Road, Rutland, VT 05701; Phone at (802) 770-2195, or email at john.greenan@greenmountainpower.com.

i. FERC Contact: Amanda Gill, (202) 502-6773 or amanda.gill@ferc.gov.

j. Deadline for filing motions to intervene and protests: 60 days from the issuance date of this notice.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-4451-024.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time.

l. Project Description: The existing Lower Great Falls Project consists of: (1) A 297-foot-long, 32-foot-high stone masonry and concrete dam that includes the following sections: (a) A 176-foot-long spillway section with a crest elevation of 102.37 feet National Geodetic Vertical Datum of 1929 (NGVD) and 4-foot-high flashboards at an elevation of 106.37 feet NGVD at the top of the flashboards; (b) a 50-foot-long left abutment section; and (c) a 71-foot-long right abutment section; (2) an impoundment with a surface area of 32 acres and a storage capacity of 467 acre-feet at an elevation of 106.37 feet NGVD; (3) a 40.5-foot-wide, 20-foot-high intake structure with four 5-foot-wide, 10.5-foot-high steel frame gates and a trashrack with 2-inch bar spacing; (4) two steel penstocks that include: (a) An 8.5-foot-diameter, 120-foot-long left penstock that bifurcates into a 5.3-foot-diameter, 85-foot-long section and a 7.6-foot-diameter, 85-foot-long section; and (b) an 8.5-foot-diameter, 140-foot-long right penstock that bifurcates into a 7-foot-diameter, 85-foot-long section and a 7.6-foot-diameter, 85-foot-long section; (5) a 46-foot-long, 30-foot-wide concrete and brick powerhouse with four Francis turbine-generator units with a total capacity of 1.28 megawatt; (6) a 55-foot-long, 30-foot-wide tailrace; (7) a 260-foot-long underground transmission line that delivers power to a 4.16-kilovolt distribution line; and (8) appurtenant facilities. The project creates a 250-foot-long bypassed reach of the Salmon Falls River between the dam and the downstream end of the tailrace.

The project operates as a run-of-river (ROR) facility with no storage or flood control capacity. The project impoundment is maintained at a flashboard crest elevation of 106.37 feet NGVD. The current license requires the project to maintain a continuous minimum flow of 6.05 cubic feet per second (cfs) or inflow, whichever is less, to the bypassed reach for the purpose of protecting and enhancing aquatic resources in the Salmon Falls River. The average annual generation production of the project was 3,916,825 kilowatt-hours from 2005 through 2018.

The applicant proposes to: (1) Continue operating the project in a ROR mode; (2) provide a minimum flow of 30 cfs or inflow, whichever is less, to the bypassed reach; (3) install an eel ramp for upstream eel passage at the project; (4) implement targeted nighttime turbine shutdowns to protect eels during downstream passage; and (5) install a downstream fish passage structure for eels and other resident fish species.

m. A copy of the application is available for review via the internet through the Commission's Home Page (http://www.ferc.gov) using the “eLibrary” link. Enter the docket number, excluding the last three digits in the docket number field, to access the document (P-4451). At this time, the Commission has suspended access to the Commission's Public Reference Room due to the proclamation declaring a National Emergency concerning the Novel Coronavirus Disease (COVID-19), issued by the President on March 13, 2020. For assistance, contact FERC Online Support.

You may also register online at https://ferconline.ferc.gov/FERCOnline.aspx to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST”, or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments—November 2020

Request Additional Information (if necessary)—January 2021

Issue Scoping Document 2—February 2021

Issue Notice of Ready for Environmental Analysis—February 2021

Commission issues Environmental Assessment—August 2021

Final amendments to the application must be filed with the Commission no later than 30 days from the issuance date of the notice of ready for environmental analysis.

Dated: October 28, 2020.
Nathaniel J. Davis, Sr.,
Deputy Secretary.

[FR Doc. 2020-24455 Filed 11-3-20; 8:45 am]

BILLING CODE 6717-01-P